DEPARTMENT OF DEFENSE

Office of the Secretary

[Transmittal No. 18-0G]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(5)(c) arms sales notification is published to fulfill the requirements of section 155 of Public Law 104-164 dated July 21, 1996. The following is a copy of a letter to the Speaker of the House of Representatives and Transmittal 18-0G with attached Policy Justification.

Dated: November 2, 2018.
Aaron T. Siegel,
Alternate OSD Federal Register Liaison Officer, Department of Defense.

Transmittal No. 18-0G

REPORT OF ENHANCEMENT OR UPGRADE OF SENSITIVITY OF TECHNOLOGY OR CAPABILITY (SEC. 36(B)(5)(C), AECA)

(i) Purchaser: Government of Oman

(ii) Sec. 36(b)(1), AECA Transmittal No.: 17-50

Date: January 5, 2018

Military Department: Air Force

(iii) Description: On January 5, 2018, Congress was notified by Congressional certification transmittal number 17-50 of the possible sale to Oman under Section 36(b)(1) of the Arms Export Control Act of an incremental Operational Flight Profile (OFP) software upgrade for F-16 subsystems, as well as Identification Friend or Foe (IFF) and secure communications equipment for Mode 5 operations, on twenty-three (23) F-16 aircraft. Non-MDE items and services consisted of twenty-nine (29) KIV-78 cryptographic/timing modules (twenty-three (23) installed and six (6) spares); twenty-nine (29) KY-100M cryptographic radio encryptors (twenty-three (23) installed and six (6) spares); twenty-nine (29) AN/APX-126 Combined Interrogator Transponders (twenty-three (23) installed and six (6) spares); Classified and Unclassified Computer Program Identification Numbers (CPINS) upgrades; OFP upgrades for IFF Mode 5 capable systems; Joint Mission Planning System (JMPS) upgrade; Sniper Advanced Targeting Pod software, service support, support equipment, spares, and training; systems support and test equipment; spare and repair parts; publications and technical documentation; training and training equipment; U.S. Government and contractor technical engineering; logistics and technical support services; and other related elements of logistics and program support. The estimated cost was $62 million.

This transmittal reports the inclusion of thirty-three (33) Link-16 Multifunctional Information Distribution System—Joint Tactical Radio Systems (MIDS-JTRS) (MDE); additional above-the-line transportation costs; and hardware and software integration costs for the Royal Air Force of Oman's F-16s aircraft upgrade program. The addition of the MDE equipment will raise the value of MDE on the sale from $0 to $15 million. Additional above-the-line transportation and integration costs increase the non-MDE value by $22 million. The total case value will increase to $99 million.

(iv) Significance: This notification is being provided as the Link-16 MIDS-JTRS were not included in the original notification. Their inclusion represents an increase in capability over what was previously notified. This equipment and additional funding to support integration efforts provides the Royal Air Force of Oman with the equipment and services necessary to support the requested capability.

(v) Justification: This proposed sale will support the foreign policy and national security objectives of the United States by helping to improve the security of a friendly country which has been, and continues to be, an important force for political stability and economic progress in the Middle East.

(vi) Sensitivity of Technology: Multifunctional Information Distribution System—Joint Tactical Radio System (MIDS-JTRS) is classified CONFIDENTIAL. The MIDS-JTRS is a secure data and voice communication network using Link-16 architecture. The system provides enhanced situational awareness, positive identification of participants within the network, secure fighter-to-fighter connectivity, secure voice capability, and ARN-118 TACAN functionality. It provides three major functions: Air Control, Wide Area Surveillance, and Fighter-to-Fighter. The MIDS-JTRS can be used to transfer data in Air-to-Air, Air-to-Surface, and Air-to-Ground scenarios. The MIDS terminal hardware, publications, performance specifications, operational capability, parameters, vulnerabilities to countermeasures, and software documentation are classified CONFIDENTIAL. The classified information to be provided consists of that which is necessary for the operation, maintenance, and repair (through intermediate level) of the data link terminal installed systems, and related software.

(vi) Date Report Delivered to Congress: October 1, 2018

[FR Doc. 2018-24412 Filed 11-7-18; 8:45 am]

BILLING CODE 5001-06-P